DEPARTMENT OF TRANSPORTATION

National Highway Traffic Safety Administration

49 CFR Part 571

[Docket No. NHTSA-2005-22061]

RIN 2127-AJ56

Identification Requirements for Buses Manufactured in Two or More Stages

AGENCY: National Highway Traffic Safety Administration (NHTSA), DOT.

ACTION: Termination of Rulemaking.

SUMMARY: On August 18, 2005, NHTSA published a notice of proposed rulemaking (NPRM) proposing to amend our certification regulation to require that, in addition to the vehicle identification number (VIN), a suffix that identified attributes about the bus body be recorded on the certification label of each bus manufactured in two or more stages. The NPRM also proposed a new regulation to require manufacturers of buses manufactured in two or more stages to obtain a manufacturer's identifier and to submit information to NHTSA about the bus bodies manufactured.

NHTSA has identified an alternative approach to obtain accurate bus accident data for analysis and safety improvement that it believes is more efficient and less burdensome. Therefore, we are terminating this rulemaking.

FOR FURTHER INFORMATION CONTACT: For non-legal issues: Charles Hott, Office of Crashworthiness Standards, NVS-113, National Highway Traffic Safety Administration, 400 Seventh Street, SW., Washington, DC 20590. Telephone (202) 366-0247. Fax: (202) 366-4329. For legal issues: Edward Glancy, Office of Chief Counsel, National Highway Traffic Safety Administration, 400 Seventh Street, SW., Washington, DC 20590. Telephone: (202) 366-2992. Fax: (202) 366-3820.

SUPPLEMENTARY INFORMATION:

Background

On November 2, 1999, the National Transportation Safety Board (NTSB) issued safety recommendations to the Department of Transportation (DOT) to develop standard definitions and classifications for each of the different bus body types and to include these definitions and classifications in the Federal motor vehicle safety standards (FMVSSs). Specifically, NTSB recommended:

In 1 year and in cooperation with the bus manufacturers, complete the development of standard definitions and classifications for each of the different bus body types, and include these definitions and classifications in the FMVSS. (NTSB Recommendation No. H-99-43)

Once the standard definitions and classifications for each of the different bus types have been established in the Federal motor vehicle safety standards, in cooperation with the National Association of Governors' Highway Safety Representatives, amend the Model Minimum Uniform Crash Criteria's (MMUCC) bus configuration coding to incorporate the FMVSS definitions and standards. (NTSB Recommendation No. H-99-44).

The recommendations were a result of an NTSB September 1999 bus safety study titled “Bus Crashworthiness Issues.” During that study, NTSB experienced difficulty in determining detailed descriptive characteristics of buses manufactured in two or more stages from the Fatality Analysis Reporting System (FARS) database. Although bus body manufacturers are required to certify that their vehicles meet the FMVSSs, they are not required to encode in the certification label affixed to the completed vehicle any descriptive information about the body they install.

In June and August of 2000, meetings were held between the Office of the Secretary of the Department of Transportation, NHTSA, Federal Motor Carrier Safety Administration, Federal Transit Administration, NTSB, bus manufacturers, and industry association representatives. At the meetings, the parties discussed whether bus configuration or bus use would be appropriate determining factors in devising a coding scheme for the final stage manufacturers' certification labels and police accident report forms. It was determined that in-service bus uses vary considerably and often change, and therefore, it would be impractical to develop bus definitions based on use. Instead, DOT determined that basic descriptive information such as length and seating configuration could be provided to better identify the type of bus body installed on the chassis. It was also determined that, in addition to the VIN, descriptive information could be encoded on the final stage manufacturer's certification label.

When buses are involved in crashes, the VIN is recorded in FARS. The name of the manufacturer is required to be on the certification label, but this information is not typically recorded on the Police Accident Report (PAR). For vehicles manufactured in one stage, the type of vehicle and bus body information is already encoded into the VIN. However, for buses manufactured in more than one stage, the VIN only identifies the incomplete vehicle manufacturer. The final stage manufacturer's name and the bus model are not encoded in the VIN and are not recorded in the PAR.

FARS records fatalities in the following bus type categories: intercity, transit, school, other, and unknown. Little is known about the types of buses involved in the fatalities that appear in “other” and “unknown” bus type categories. These buses are typically specialty type buses that are manufactured in two or more stages. They include, for example, buses that are used for shuttle services to and from airports, for transporting the medically fragile or mobility impaired, for transporting people to and from church events, and for shuttling people from one business location to another. These buses usually incorporate a cutaway chassis provided by an incomplete vehicle manufacturer. The bus body is usually manufactured and installed by a final stage manufacturer. The FARS data for the years 2000 through 2004 revealed that there are about twelve fatalities per year that fall within the “other” or “unknown” bus type categories.

The current system requires that the VIN be recorded on the PAR filed by the State. However, inaccurate transcription of the VIN on the PAR and subsequently into the FARS database has been a recurring problem. Although the final stage manufacturer's name must be recorded on the certification label, the current system does not require that the police record this information on the PAR.

On August 18, 2005, NHTSA published an NPRM to address this issue in the Federal Register (70 FR 48507; Docket No. NHTSA-2005-22061). The NPRM proposed to amend Part 567—Certification, to require that a new ten-digit suffix be appended to the VIN on the certification label for buses manufactured in two or more stages. The new suffix would identify the bus body manufacturer and certain attributes about the type of bus, e.g., model number, seat configuration, and bus body length. The NPRM also proposed to add a new Part 584—Buses Manufactured in Two or More Stages, to require that bus body manufacturers of buses manufactured in two or more stages obtain a manufacturer's identifier and provide the descriptive information necessary to decode the suffix. The NPRM proposed that this information be available so that it could be collected and used by researchers and others to better define safety improvements to reduce the number of fatalities and serious injuries in bus crashes.

The NPRM also requested comments on the burden to State and local Governments, costs, reduction of transcription errors, and alternative approaches.

Summary of Comments

The agency received eight comments in response to the NPRM. None of the commenters, except NTSB, supported the proposal. Comments were received from three manufacturers (International Truck and Engine Corporation, Blue Bird Body Company, and Freightliner), and one industry association (National Truck and Equipment Association). Those commenters generally opposed recording the proposed VIN suffix on the certification label and the submittal of information under the proposed Part 584. They alternatively suggested that the name of the bus manufacturer be recorded on the PAR so it could be captured in FARS. Researchers and others seeking more descriptive information about the bus body could then contact the bus body manufacturer for the information about the bus body. These commenters generally disagreed with the cost estimate that was provided in the NPRM and suggested that the real cost would be much higher; however, no estimates of actual costs were provided.

The agency also received comments from two individuals, Mr. Jim Lawrence and Mr. Duane E. Bartels. Mr. Lawrence suggested that the proposed Part 584 information be specified in Part 565, “Vehicle Identification Number Requirements.” Mr. Lawrence also suggested that the agency require that manufacturers submit information on a quarterly basis and maintain a database of the manufactured-supplied information. He felt this would reduce transcription errors when recording the information at the crash scene and the burden on State and local Governments in collecting this information. However, Mr. Lawrence did not provide any information on how NHTSA could obtain the crash information without having it recorded on the PAR at the crash scene. Mr. Bartels suggested that buses be required to have the number of seating positions recorded on the certification label for the purposes of inspection so that inspectors could determine whether a commercial driver's license and drug and alcohol testing requirements needed to be met to operate the bus. The agency notes that Mr. Bartels' request is outside the scope of this rulemaking action.

A comment was received from the European Commission, Enterprise and Industry Directorat-General which represents the European Union (EU). The European Commission stated, “this new administrative procedure could represent an unnecessary trade obstacle for EU manufacturers.”

NTSB stated that although the proposed regulation does not establish bus definitions for the FMVSSs, it does establish identification of bus bodies, and thus classification for the FARS database. NTSB also stated that while not defining bus bodies in the FMVSSs, the proposal would better identify the type of bus in the FARS system, and therefore would satisfy the intent of the NTSB safety recommendations to accurately collect vehicle accident data for analysis and safety improvement.

The agency did not receive any comments from States or local jurisdictions on whether they would change the PAR so that the proposed VIN suffix could be captured at the crash scene and subsequently entered in the FARS database. No information was received from the States or local jurisdictions on the burden that this rulemaking action would place on them.

Agency Rationale for Terminating Rulemaking

NHTSA has decided to terminate the proposed rulemaking because we have identified an alternative approach to obtain more accurate bus accident data for analysis and safety improvement that it believes is more efficient and less burdensome.

FARS data and the majority of NHTSA's other data are derived from the PAR. There is no indication that states and local jurisdictions would change the PAR to capture the additional VIN information at the scene of the crash. The agency believes that continuing this rulemaking would not provide improvement to the existing information that is already recorded in the FARS database. It would also place an unnecessary burden on the bus manufacturers and likely cause greater transcription errors in the information collected at the scene of bus crashes. The agency believes that the best way to encourage states to consistently capture information on the PAR is through simplification of data collection at the crash scene, and that changing the MMUCC will accomplish the NTSB intent to improve information collected about bus crashes.

The NTSB study leading to its recommendations was based on data in the FARS database for buses prior to the existence of MMUCC.¹ NHTSA has made significant efforts to simplify the data collection techniques at the crash scene and enable the States to collect more accurate data. A 2005 agency review of compliance with the 1998 publication of MMUCC showed that 50 percent of the States had adopted the MMUCC. NHTSA expects even greater adoption in the future because of provisions in the SAFETEA-LU ² legislation providing grants for States that establish traffic safety information systems to improve the timeliness, accuracy, completeness, uniformity, integration, and accessibility of the safety data collected. This will provide a greater incentive for states to adopt the MMUCC.

¹ For more information regarding MMUCC, go to http://www.mmucc.us.

² Safe, Accountable, Flexible, Efficient Transportation Equity Act: A Legacy for Users.

The next edition of MMUCC is scheduled to be updated in 2007. NHTSA believes that changing the MMUCC to ensure more efficient and accurate coding of bus accident data at the crash scene will lead to better inclusion of the bus related information on the PAR and consequent improvement of the bus information in FARS and other NHTSA databases. Since this will be more efficient and less burdensome while still achieving the NTSB intent, we have decided to terminate this rulemaking.

Authority: 49 U.S.C. 30162; delegations of authority at 49 CFR 1.50 and 49 CFR 501.8.

Issued on: January 12, 2007.
Stephen R. Kratzke,
Associate Administrator for Rulemaking.

[FR Doc. E7-654 Filed 1-18-07; 8:45 am]

BILLING CODE 4910-59-P